COMMITTEE FOR PURCHASE FROM PEOPLE WHO ARE BLIND OR SEVERELY DISABLED

Procurement List; Proposed Additions and Deletions

AGENCY: Committee for Purchase From People Who Are Blind or Severely Disabled.

ACTION: Proposed additions to and deletions from Procurement List.

SUMMARY: The Committee has received proposals to add to the Procurement List commodities and services to be furnished by nonprofit agencies employing persons who are blind or have other severe disabilities, and to delete commodities previously furnished by such agencies.

Comments Must Be Received on or Before: April 24, 2000.

ADDRESSES: Committee for Purchase From People Who Are Blind or Severely Disabled, Crystal Gateway 3, Suite 310, 1215 Jefferson Davis Highway, Arlington, Virginia 22202-4302.

FOR FURTHER INFORMATION CONTACT: Louis R. Bartalot (703) 603-7740.

SUPPLEMENTARY INFORMATION: This notice is published pursuant to 41 U.S.C. 47(a)(2) and 41 CFR 51-2.3. Its purpose is to provide interested persons an opportunity to submit comments on the possible impact of the proposed actions.

Additions

If the Committee approves the proposed additions, all entities of the Federal Government (except as otherwise indicated) will be required to procure the commodities and services listed below from nonprofit agencies employing persons who are blind or have other severe disabilities. I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46-48c) in connection with the commodities and services proposed for addition to the Procurement List. Comments on this certification are invited. Commenters should identify the statement(s) underlying the certification on which they are providing additional information.

The following commodities and services have been proposed for addition to Procurement List for production by the nonprofit agencies listed:

Commodities

Tape, Electronic Data, 7045-01-391-0947, 7045-01-438-7086.

NPA: North Central Sight Services, Inc., Williamsport, Pennsylvania.

Services

Acquisition & Distribution of AA-Cell Batteries, Tier AD, (6135-00-643-1309), Defense Supply Center—Richmond, Richmond, Virginia.

NPA: Eastern Carolina Vocational Center, Inc, Greenville, North Carolina.

Eyewear Prescription Service at the following locations: Department of Veterans Administration Medical Center Outpatient Clinic, 3510 Augusta Road, Greenville, South Carolina, Department of Veterans Affairs Medical Center, 6439 Garners Ferry Road, Columbia, South Carolina.

NPA: Winston-Salem Industries for the Blind, Winston-Salem, North Carolina.

Janitorial/Custodial for the following locations in Pasadena, California: US Court of Appeals, 125 South Grand Avenue, Social Security Administration Building, 104 Mentor Street. NPA: Asian Rehabilitation Services, Inc., Los Angeles, California.

Janitorial/Custodial, Bureau of Reclamation, Farmington Construction Office (FCO), 2200 Bloomfield Highway, Farmington, New Mexico. NPA: RCI, Inc., Albuquerque, New Mexico.

Janitorial/Custodial, U.S. Immigration & Naturalization Service, Institutional Hearing Program, 7405CI Highway 75 South, Huntsville, Texas.

NPA: Tri-County Mental Health Mental Retardation Services, Conroe, Texas.

Deletion

I certify that the following action will not have a significant impact on a substantial number of small entities. The major factors considered for this certification were:

1. The action will not result in any additional reporting, recordkeeping or other compliance requirements for small entities.

2. The action will result in authorizing small entities to furnish the commodities to the Government.

3. There are no known regulatory alternatives which would accomplish the objectives of the Javits-Wagner-O'Day Act (41 U.S.C. 46-48c) in connection with the commodities proposed for deletion from the Procurement List.

The following commodities have been proposed for deletion from the Procurement List: Liner, Trousers, Cold Weather, 8415-01-180-0376 8415-01-180-0377.

Leon A. Wilson, Jr.,
Executive Director.

[FR Doc. 00-7324 Filed 3-23-00; 8:45 am]

BILLING CODE 6353-01-P